DEPARTMENT OF AGRICULTURE

Food and Nutrition Service

Agency Information Collection Activities: Proposed Collection; Comment Request—Supplemental Nutrition Assistance Program—Quality Control

AGENCY: Food and Nutrition Service (FNS), USDA.

ACTION: Notice.

SUMMARY: In accordance with the Paperwork Reduction Act of 1995, this notice invites the general public and other public agencies to comment on this proposed information collection.

DATES: Written comments must be received on or before October 17, 2016.

ADDRESSES: Comments may be sent to: Stephanie Proska, Food and Nutrition Service, U.S. Department of Agriculture, 3101 Park Center Drive, Room 822, Alexandria, VA 22302. Comments may also be submitted via fax to the attention of Stephanie Proska at 703-305-0928 or via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Stephanie Proska at 703-305-2437.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Supplemental Nutrition Assistance Program (SNAP)—Title 7, Part 275.

OMB Number: 0584-0303.

Expiration Date: January 31, 2017.

Type of Request: Revision of a currently approved collection.

Abstract: There are three components of the Quality Control (QC) system that are covered in this required information collection. They are: (1) The sampling plan; (2) the arbitration process; and (3) the good cause process. Each State is required to develop a sampling plan that demonstrates the integrity of its case selection procedures. The QC system is designed to measure each State agency's payment error rate based on a statistically valid sample of SNAP cases. A State agency's payment error rate represents the proportion of cases that were reported through a QC review as being ineligible, as well as the proportion of SNAP benefits that were either overissued or underissued to SNAP households.

The QC system contains procedures for resolving differences in review findings between State agencies and FNS. This is referred to as the arbitration process. The QC system also contains procedures that provide relief for State agencies from all or a part of a QC liability when a State agency can demonstrate that a part or all of an excessive error rate was due to an unusual event that had an uncontrollable impact on the State agency's payment error rate. This is referred to as the good cause process.

The approved burden for the QC system includes the burden for the QC sampling plan, the arbitration process and the good cause process. The currently approved burden for total reporting burden for the QC system is 1,544.91 hours, an increase of 167.91 hours. (1) The annual reporting burden associated with the QC sampling plan remains at 265 hours. (2) We estimate the annual reporting burdens associated with arbitration and (3) good cause processes to total 791.1 and 320 hours, respectively. The decrease in the revised burden from the currently approved 792 to 791.1 hours for the arbitration process is due to a decrease in the estimated number of responses per State agency. These decreases are a result of State agencies less frequently disagreeing with FNS' findings. The requested annual reporting burden for the good cause process remains at 320 hours.

In addition, we are adding two additional forms to the reporting burden: FNS 74A, Template for QC-related New Investment Plans and FNS 74B, Template for QC-related New Investment Plan Progress Reports. These two templates are being added to this collection in an effort to formalize the regulatory requirements of these two items for States that are subject to QC-related new investments.

Based on the number of State agencies subject to the QC-related new investment requirement over the last three years and feedback from those State agencies that responded to our inquiry, we estimate the amount of time to create a QC-related new investment plan is approximately 32 hours. This estimate includes determining root causes of a State agency's error rate, exploring methods to address those causes, and writing up the plan to address those causes. In addition, we estimate it takes approximately 5 hours to complete a progress report updating FNS on the status of the activities in the State agency's relevant QC-related new investment plan. We estimate the total annual reporting burden for 4 State Agencies to complete a new investment plan to be 128 hours and 40 hours for the progress report.

The requested annual recordkeeping burden associated with the QC sampling plan remains at 1.25 hours per year. The revised annual recordkeeping burdens associated with arbitration has increased from 0.7788 hour to 1.4868 hours and the good cause process has remained at 0.0472 hour. The estimated recordkeeping burden for the QC-related new investment plan and progress reports total 0.0944 hour and 0.1888 hours respectively.

The burden for recordkeeping has increased from 2.076 hours to 3.068 hours. As a result, the overall annual burden for the QC system, as proposed by this notice, increased from 1,379.076 to 1547.978 hours, totaling an increase of 168.90 hours.

Affected public | Requirement | Estimated number of respondents | Responses annually per respondent | Total annual responses (Col. b × c) | Estimated average number of hours per response | Estimated total hours (Col. d × e)
Reporting Burden
State Agencies | Sampling Plan | 53 | 1 | 53 | 5 | 265
State Agencies | Arbitration Process | 15 | 4.2 | 63 | 12.57 | 791.91
State Agencies | Good Cause Process | 2 | 1 | 2 | 160 | 320
State Agencies | New Investment Plan Template Form FNS 74 A | 4 | 1 | 4 | 32 | 128
State Agencies | New Investment Progress Report Template Form FNS 74 B | 4 | 2 | 8 | 5 | 40
Grand Total Reporting |  | 53 |  | 130 |  | 1544.91

Affected public | Requirement | Estimated number of respondents | Number of reports annually per state | Number of total annual records | Estimated time per record | Estimated total recordkeeping hours
Recordkeeping Burden
State Agencies | Sampling Plan | 53 | 1 | 53 | 0.0236 | 1.2508
State Agencies | Arbitration Process | 15 | 4.2 | 63 | 0.0236 | 1.4868
State Agencies | Good Cause Process | 2 | 1 | 2 | 0.0236 | 0.0472
State Agencies | New Investment Plan Template Form FNS 74 A | 4 | 1 | 4 | 0.0236 | 0.0944
State Agencies | New Investment Progress Report Template Form FNS 74 B | 4 | 2 | 8 | 0.0236 | 0.1888
Grand Total Recordkeeping |  | 53 |  | 130 |  | 3.068
Combined Grand Total Reporting and Recordkeeping |  | 53 | 4.90566 | 260 | 5.953730 | 1547.978

Dated: August 2, 2016.
Yvette S. Jackson,
Acting Administrator, Food and Nutrition Service.

[FR Doc. 2016-19533 Filed 8-15-16; 8:45 am]

BILLING CODE 3410-30-P